FEDERAL MEDIATION AND CONCILIATION SERVICE

Labor Management Cooperation Program; Information Collection Request

AGENCY: Federal Mediation and Conciliation Service.

ACTION: Notice of public information collection(s); request for comments.

SUMMARY: The Federal Mediation and Conciliation Service (FMCS), as part of its continuing effort to reduce paperwork burden in accordance with the Paperwork Reduction Act of 1995, invites the general public and other Federal agencies to take this opportunity to comment on the following information collection(s). The information collection requests are FMCS forms: Application for Federal Assistance (SF-424), Request for Advance or Reimbursement SF-270 (LM-6), Project Performance (LM-8), Financial Status Report SF-269a (LM-7), Grants Program Grantee Evaluation Questionnaire (agency form LM-9), and Accounting System and Financial Capability Questionnaire (LM-3). The request seeks Office of Management and Budget (OMB) approval for a three-year expiration date of Forms SF-424, SF-270 (LM-6), (LM-8), SF-269a (LM-7), (LM-9) and (LM-3) until October 2010. FMCS is soliciting comments on specific aspects of the collection as described below.

DATES: Written Paperwork Reduction Act Comments must be submitted on or before December 10, 2007.

ADDRESSES: Submit written comments identified by the appropriate agency form number by mail to the Office of Information and Regulatory Affairs, Office of Management and Budget, Attention: Desk Officer for the Federal Mediation and Conciliation Service, Room 10235, Washington, DC 20503. Copies of the complete agency forms may be obtained from the Federal Mediation and Conciliation Service, Labor Management Grants Program, 2100 K Street, NW., Washington, DC 20427 or by contacting the person whose name appears under the section headed, FOR FURTHER INFORMATION CONTACT.

Comments and data may also be submitted by fax at (202) 606-3434 or electronically by sending electronic (e-mail) to Michael Bartlett, Federal Register Liaison at mbartlett@fmcs.gov or Linda Stubbs the Grants Management Specialist at lstubbs@fmcs.gov. All comments and data in electronic form must be identified by the appropriate agency form number. No confidential business information (CBI) should be submitted through e-mail.

Information submitted as a comment concerning this document may be claimed confidential by marking any part or all of the information as “CBI”. Information so marked will not be disclosed but a copy of the comment that does contain CBI must be submitted for inclusion in the public record. Information not marked confidential may be disclosed publicly by FMCS without prior notice. All written comments will be available for inspection in Room 10235 at the Washington, DC address above from 8:30 a.m. to 4:30 p.m., Monday through Friday, excluding legal holidays.

FOR FURTHER INFORMATION CONTACT: Linda Stubbs, Grants Management Specialist, FMCS, 2100 K Street, NW., Washington, DC 20427. Telephone number (202) 606-8181, e-mail to lstubbs@fmcs.gov or fax at (202) 606-3434.

I. Information Collection Requests

FMCS is seeking comments on the following information collection requests contained in FMCS agency forms.

Agency: Federal Mediation and Conciliation Service.

Form Number: OMB No. 3076-0006.

Type of Request: Renewal without change of a currently approved collection without any change in the substance or method of collection.

Affected Entities: Potential applicants and/or grantees who received our grant application kit. Also applicants who have received a grant from FMCS.

Frequency: a. Three of the forms, the SF-424, LM-6, and LM-9 are submitted at the applicant/grantee's discretion.

b. To conduct the quarterly submissions, LM-7 and LM-8 forms are used. Less than quarterly reports would deprive FMCS of the opportunity to provide prompt technical assistance to deal with those problems identified in the report.

c. Once per application. The LM-3 is the only form to which a “similar information” requirement could apply. That form takes the requirement into consideration by accepting recent audit reports in lieu of applicant completion of items C2 through 9 and items D1 through 3.

Burden: Application for Federal Assistance (SF-424) is an OMB form which we do not include in the burden. We have not added to it; however, we have deleted the requirements for completion of sections C, D, and E. We received approximately 113 respondents. Request for Advance or Reimbursement SF-270 (LM-6) is an OMB form with no agency additions. The number of respondents is approximately 37 and estimated time per response is 30 minutes. Project Performance (LM-8) approximately 37 respondents and estimated time per response is 30 minutes. Financial Status Report SF-269a) (LM-7) is an OMB form with no agency additions. The estimated time per response is 30 minutes and approximately 37 respondents. FMCS Grants Program Evaluation Questionnaire (LM-9) form number of respondents is approximately 12 respondents and estimated time per response is 60 minutes, and Accounting System and Financial Capability Questionnaire (LM-3) approximately 28 respondents and estimated time per response is 60 minutes.

Abstract: Except for the FMCS Forms LM-3 and LM-9, the forms under consideration herein are either required or recommended in OMB Circulars. The two exceptions are non-recurring forms, the former a questionnaire sent only to non-public sector potential grantees and the latter a questionnaire sent only to former grantees for voluntary completion and submission.

The collected information is used by FMCS to determine annual applicant suitability, to monitor quarterly grant project status, and for on-going program evaluation. If the information were not collected, there could be no accounting for the activities of the program. Actual use has been the same as intended use.

II. Request for Comments

The OMB is particularly interested in comments which:

(i) Evaluate whether the proposed collection of information is necessary for the proper performance of the functions of the agency, including whether the information will have practical utility;

(ii) Evaluate the accuracy of the agency's estimates of the burden of the proposed collection of information;

(iii) Enhance the quality, utility, and clarity of the information to be collected; and

(iv) Minimize the burden of the collection of information on those who are to respond, including the use of appropriate automated electronic collection technologies or other forms of information technology, e.g. permitting electronic and fax submission of responses.

List of Subjects

Labor-Management Cooperation Program and Information Collection Requests.

Dated: October 3, 2007.
Fran Leonard,
Acting Chief of Staff, Federal Mediation and Conciliation Service.

[FR Doc. E7-20071 Filed 10-10-07; 8:45 am]

BILLING CODE 6372-01-P